FEDERAL ACCOUNTING STANDARDS ADVISORY BOARD

Amendment of FASAB Charter

Board Action: Pursuant to 31 U.S.C. 3511(d), the Federal Advisory Committee Act (Pub. L. 92-463), as amended, and the FASAB Rules of Procedure, as amended in October, 1999, notice is hereby given that under the authority and in furtherance of the objectives of 31 U.S.C. 3511(d), the Secretary of the Treasury, the Director of OMB, and the Comptroller General (the Sponsors) have altered the composition of the Board by adding a member from the Congressional Budget Office.

For Further Information Contact: Wendy Comes, Executive Director, 441 G St., NW., Suite 6814, Mail Stop 6K17V, Washington, DC 20548, or call (202) 512-7350.

Authority: Federal Advisory Committee Act. 31 U.S.C. 3511(d), Pub. L. 92-463.

Dated: October 1, 2003.
Wendy M. Comes,
Executive Director.

[FR Doc. 03-25276 Filed 10-3-03; 8:45 am]

BILLING CODE 1610-01-M